DEPARTMENT OF THE INTERIOR

Bureau of Land Management

[LLNM004410.L16100000. DO0000.LXSSG0690000]

Notice of Intent To Extend the Public Scoping Period for the Oklahoma, Kansas, and Texas Resource Management Plan and Call for Coal Information

AGENCY: Bureau of Land Management, Interior.

ACTION: Notice of Intent.

SUMMARY: In compliance with the National Environmental Policy Act of 1969 (NEPA), as amended, and the Federal Land Policy and Management Act (FLPMA) of 1976, as amended, the Bureau of Land Management (BLM) is extending the scoping period for the Oklahoma, Kansas, and Texas planning area, which was originally initiated on July 26, 2013 (78 FR 45266). The purpose of the ongoing scoping process is to solicit public comments and identify issues. The BLM is also soliciting resource information for coal and other resources in the planning area.

DATES: This notice extends the scoping period for the Resource Management Plan (RMP) with an associated Environmental Impact Statement (EIS). Comments on issues may be submitted in writing until January 24, 2014. The date(s) and location(s) of scoping meetings will be announced at least 15 days advance through the local media, newspapers and the BLM Web site at: http://www.blm.gov/nm/oktrmp. In order to be included in the Draft EIS, all comments must be received prior to the close of the scoping period or 15 days after the last public meeting, whichever is later. We will provide additional opportunities for public participation upon publication of the Draft EIS.

ADDRESSES: You may submit comments on issues and planning criteria related to the Oklahoma/Kansas/Texas RMP by any of the following methods:

• Web site: http://www.blm.gov/nm/oktrmp.

• Email: BLM_NM_OKT_RMP@blm.gov.

• Fax: 918- 621-4130; Attention: Laurence Levesque.

• Mail: Oklahoma Field Office, BLM, 7906 East 33rd Street, Suite 101, Tulsa, Oklahoma 74145; Attention: Laurence Levesque.

Documents pertinent to this proposal may be examined at the Oklahoma Field Office at the above address.

FOR FURTHER INFORMATION CONTACT: Laurence Levesque, Planning and Environmental Specialist; telephone 918-621-4136; address 7906 East 33rd Street, Suite 101, Tulsa, OK 74145; email laurence_levesque@blm.gov. Contact Mr. Levesque if you wish to have your name added to our mailing list. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This document provides notice that the BLM Oklahoma Field Office, Tulsa, Oklahoma, is extending the scoping period for an RMP with an associated EIS for the Oklahoma, Kansas, and Texas planning area. The EIS will also analyze decisions for Indian lands and mineral interests administered by the BIA Eastern Oklahoma and Southern Plans Regional Offices. The BLM will be the lead agency in the RMP/EIS development effort, and the BIA will participate as a cooperating agency and sign a separate Record of Decision for management decisions for Indian lands and mineral interests. For additional information regarding the planning area, issues, and planning criteria, please refer to the original Notice of Intent published on July 26, 2013 (78 FR 45266).

You may submit comments on issues and planning criteria in writing to the BLM at any public scoping meeting, or you may submit them to the BLM using one of the methods listed in the ADDRESSES section above. To be most helpful, you should submit comments by the close of the 30 day scoping period or within 15 days after the last public meeting, whichever is later.

Parties interested in leasing and development of Federal coal in the planning area should provide coal resource data for their area(s) of interest. Specifically, information is requested on the location, quality, and quantity of Federal coal with development potential, and on surface resource values related to the 20 coal unsuitability criteria described in 43 CFR part 3461. This information will be used for any necessary updating of coal screening determination (43 CFR 3420.1-4) in the Decision Area and in the environmental analysis for the RMP. In addition to coal resource data, the BLM seeks resource information and data for other public land values (e.g., air quality, cultural and historic resources, fire/fuels, fisheries, forestry, lands and realty, non-energy minerals and geology, oil and gas, paleontology, rangeland management, recreation, soil, water, and wildlife) in the planning area. The purpose of this request is to assure that the planning effort has sufficient information and data to consider a reasonable range of resource uses, management options, and alternatives for the public lands.

The BLM will use an interdisciplinary approach to develop the plan in order to consider the variety of resource issues and concerns identified. Specialists with expertise in the following disciplines will be involved in the planning process: Minerals and geology, archaeology, wildlife and fisheries, lands and realty, hydrology, soils, livestock grazing, recreation, sociology, and economics.

Authority: 40 CFR 1501.7, 43 CFR 1610.2

Sheila K. Mallory,
Acting State Director, Minerals.

[FR Doc. 2013-29964 Filed 12-16-13; 8:45 am]

BILLING CODE 4310-FB-P